DEPARTMENT OF TRANSPORTATION

Federal Aviation Administration

Thirteenth Meeting: RTCA Tactical Operations Committee (TOC)

AGENCY: Federal Aviation Administration (FAA), U.S. Department of Transportation (DOT).

ACTION: Notice of Thirteenth RTCA Tactical Operations Committee (TOC) meeting.

SUMMARY: The FAA is issuing this notice to advise the public of the Thirteenth RTCA Tactical Operations Committee (TOC) meeting.

DATES: The meeting will be held April 4, 2016 from 2:00 p.m.-4:00 p.m.

ADDRESSES: The meeting will be held at RTCA, Inc., 1150 18th Street NW., Suite 910, Washington, DC 20036, Tel: (202) 330-0662.

FOR FURTHER INFORMATION CONTACT: The RTCA Secretariat, 1150 18th Street NW., Suite 910, Washington, DC 20036, or by telephone at (202) 833-9339, fax at (202) 833-9434, or Web site at http://www.rtca.org or Trin Mitra, TOC Secretary, RTCA, Inc., tmitra@rtca.org, (202) 330-0655.

SUPPLEMENTARY INFORMATION: Pursuant to section 10(a)(2) of the Federal Advisory Committee Act (Pub. L. 92-463, 5 U.S.C., App.), notice is hereby given for a meeting of RTCA Tactical Operations Committee (TOC). The agenda will include the following:

Monday, April 4, 2016

1. Opening of Meeting/Introduction of TOC Members—Co Chairs Dale Wright and Bryan Quigley

2. Official Statement of Designated Federal Official—Elizabeth Ray

3. Approval of March 3, 2016 Meeting Summary

4. FAA Update—Elizabeth Ray

5. Discussion on NATCA agreement on facility release policy

6. Recommendations to Consider for Approval from the Western Regional Task Group/NorCal feasibility study

7. Review Terms of Reference for PBN Route Structure Concept of Operations task

8. Other Business

9. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on March 10, 2016.
Latasha Robinson,
Management & Program Analyst, NextGen, Enterprise Support Services Division, Federal Aviation Administration.

[FR Doc. 2016-05937 Filed 3-15-16; 8:45 am]

BILLING CODE 4910-13-P